DEPARTMENT OF TRANSPORTATION

Federal Aviation Administration

Aviation Rulemaking Advisory Committee—Transport Airplane and Engine Subcommittee; Meeting

AGENCY: Federal Aviation Administration (FAA), Department of Transportation (DOT).

ACTION: Notice of public meeting.

SUMMARY: This notice announces a public meeting of the FAA's Aviation Rulemaking Advisory Committee (ARAC) Transport Airplane and Engine (TAE) Subcommittee to discuss TAE issues.

DATES: The meeting will be held on Thursday, May 10, 2018, starting at 9:00 a.m. Eastern Daylight Time. Arrange for oral presentations by May 1, 2018.

ADDRESSES: The meeting will take place at 1000 Wilson Boulevard, Arlington, VA 22209.

FOR FURTHER INFORMATION CONTACT: Lakisha Pearson, Office of Rulemaking, ARM-209, FAA, 800 Independence Avenue SW, Washington, DC 20591, Telephone (202) 267-4191, Fax (202) 267-5075, or email at 9-awa-arac@faa.gov.

SUPPLEMENTARY INFORMATION: Pursuant to Section 10(a)(2) of the Federal Advisory Committee Act (Pub. L. 92-463; 5 U.S.C. app. III), notice is given of an ARAC Subcommittee meeting to be held on May 10, 2018.

The agenda for the meeting is as follows:

• Opening Remarks, Review Agenda and Minutes

• FAA Report

• ARAC Report

• Transport Canada Report

• European Aviation Safety Agency Report

• Engine Ice Crystal Icing Working Group Report

• Avionics Systems Harmonization Working Group Report

• Flight Test Harmonization Working Group Report

• Metallic and Composite Structures Working Group Report

• Crashworthiness and Ditching Working Group Report

• Any Other Business

• Action Item Review

Participation is open to the public. Please confirm your attendance with the person listed in the FOR FURTHER INFORMATION CONTACT section no later than May 1, 2018. Please provide the following information: Full legal name, country of citizenship, and name of your industry association, or applicable affiliation. If you are attending as a public citizen, please indicate so.

For persons participating by telephone, please contact the person listed in FOR FURTHER INFORMATION CONTACT by email or phone for the teleconference call-in number and passcode. Participants are responsible for any telephone, data usage or other similar expenses related to this meeting.

The public must make arrangements by May 1, 2018, to present oral or written statements at the meeting. Written statements may be presented to the Subcommittee by providing a copy to the person listed in the FOR FURTHER INFORMATION CONTACT section. Copies of the documents to be presented to the Subcommittee may be made available by contacting the person listed in the FOR FURTHER INFORMATION CONTACT section.

If you need assistance or require a reasonable accommodation for the meeting or meeting documents, please contact the person listed in the FOR FURTHER INFORMATION CONTACT section.

Issued in Washington, DC.
Lirio Liu,
Designated Federal Officer, Aviation Rulemaking Advisory Committee.

[FR Doc. 2018-05860 Filed 3-21-18; 8:45 am]

BILLING CODE 4910-13-P